DEPARTMENT OF THE INTERIOR

Bureau of Indian Affairs

[156A2100DD/AAKC001030/A0A501010.999900 253G]

Renewal of Agency Information Collection for Leases and Permits

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information for Leases and Permits, 25 CFR 162. The information collection is currently authorized by OMB Control Number 1076-0155. This information collection expires November 30, 2015.

DATES: Submit comments on or before November 13, 2015.

ADDRESSES: You may submit comments on the information collection to Ms. Sharlene Roundface, Office of Trust Services, Bureau of Indian Affairs, 1849 C Street NW., Mailstop 3642—MIB, Washington, DC 20240; email: Sharlene.Roundface@bia.gov.

FOR FURTHER INFORMATION CONTACT: Ms. Sharlene Roundface, telephone: (202) 208-5831.

SUPPLEMENTARY INFORMATION:

I. Abstract

The Bureau of Indian Affairs (BIA) is seeking renewal of the approval for information collection conducted under 25 CFR 162, Leases and Permits, for the review and approval of leases and permits on land the United States holds in trust or restricted status for individual Indians and Indian tribes. This information collection allows BIA to review applications for leases and permits, modifications, and assignments, and to determine:

(a) Whether or not a lease may be approved or granted;

(b) The value of each lease;

(c) The appropriate compensation to landowners; and

(d) Provisions for violations of trespass.

A response is required to obtain or retain a benefit.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0155.

Title: Leases and Permits, 25 CFR 162.

Brief Description of Collection: Generally, trust and restricted land may be leased by Indian landowners with the approval of the Secretary of the Interior, except when specified by statute. Submission of this information allows BIA to review applications for obtaining, modifying and assigning leases and permits of land that the United States holds in trust or restricted status for individual Indians and Indian tribes. The information is used to determine approval of a lease, amendment, assignment, sublease, mortgage or related document. Response is required to obtain or retain a benefit.

Type of Review: Extension without change of currently approved collection.

Respondents: Individual Indians and Indian tribes seeking to lease their trust or restricted land and businesses that lease trust and restricted land.

Estimated Number of Respondents: 127,110.

Frequency of Response: One approval per lease, other collections occur fewer than once per lease, on average, upon request for modification or assignment or upon a trespass violation.

Estimated Time per Response: Ranges from 15 minutes to 3 hours.

Estimated Total Annual Hour Burden: 108,975 hours.

Estimated Total Annual Non-Hour Dollar Cost: $1,813,000.

Elizabeth K. Appel,
Director, Office of Regulatory Affairs and Collaborative Action—Indian Affairs.

[FR Doc. 2015-22962 Filed 9-11-15; 8:45 am]

BILLING CODE 4337-15-P